DEPARTMENT OF THE TREASURY

Office of Foreign Assets Control

Revocation of OFAC Specific Licenses To Engage in Travel-Related Transactions Incident to Visiting Close Relatives in Cuba

ACTION: Notice.

SUMMARY: The Office of Foreign Assets Control (“OFAC”) of the U.S. Department of the Treasury is amending the terms of current licenses issued pursuant to the Cuban Assets Control Regulations in effect prior to June 30, 2004 (the effective date of the interim final rule published elsewhere in this issue) so that they terminate no later than 12:01 a.m. eastern standard time on June 30, 2004.

DATES: Effective Date: June 30, 2004.

FOR FURTHER INFORMATION CONTACT: Chief of Licensing, tel.: 202/622-2480 or Chief of Policy Planning and Program Management, tel.: 202/622-4855, Office of Foreign Assets Control, or Chief Counsel, tel.: 202/622-2410, Office of Chief Counsel (Foreign Assets Control), Department of the Treasury, Washington, DC 20220 (not toll free numbers).

SUPPLEMENTARY INFORMATION: Concurrent with this notice, OFAC is publishing separately in the Federal Register an interim final rule, effective June 30, 2004, amending the Cuban Assets Control Regulations, 31 CFR part 515 (the “CACR”), to implement a number of proposed changes to the U.S. embargo of Cuba pursuant to a May 6, 2004 direction from the President. These changes include the elimination of the general license contained in § 515.561(a), which authorized travel-related transactions incident to visiting close family in Cuba once per 12-month period, as well as the specific licensing policy contained in § 515.561(b), pursuant to which additional family visits within the same 12-month period were authorized on a case-by-case basis. In their place, OFAC has issued new § 515.561, which contains a specific licensing policy for case-by-case licensing of family visits once per three-year period.

A significant number of persons subject to U.S. jurisdiction have outstanding specific licenses issued by OFAC pursuant to paragraph (b) of § 515.561. These licenses authorize Cuba travel-related transactions incident to an additional family visit not to exceed two or three weeks in duration. These licenses are valid for 100 days from the date of issuance. Many of the outstanding licenses will not expire, by their own terms, until on or after June 30, 2004.

Consistent with the President's May 6, 2004 direction and the new amendments to the CACR, any license issued pursuant to paragraph (a) of § 515.561 on or before June 16, 2004, and that expires according to its own terms on or after June 30, 2004, is hereby amended to expire at 12:01 a.m. Eastern Standard Time on June 30, 2004. Accordingly, all persons who hold such licenses may not use them to engage in any Cuba travel-related transactions on or after June 30, 2004.

Dated: June 10, 2004.
R. Richard Newcomb,
Director, Office of Foreign Assets Control.
Approved: June 10, 2004.
Juan C. Zarate,
Deputy Assistant Secretary (Terrorist Financing and Financial Crimes), Department of the Treasury.

[FR Doc. 04-13631 Filed 6-14-04; 9:51 am]

BILLING CODE 4810-25-P